DEPARTMENT OF COMMERCE

Economic Development Administration

[Docket No. 000515144-0144-01]

RIN: 0610-ZA15

National Technical Assistance, Training, Research, and Evaluation—Request for Grant Proposals

AGENCY: Economic Development Administration (EDA), Department of Commerce (DoC).

ACTION: Request for Grant Proposals (RFP) upon availability of funds.

SUMMARY: As part of its mission to assist economically distressed areas, EDA promotes dissemination of quality, accessible, and timely information to economic development practitioners nationally. EDA is soliciting proposals for information dissemination projects as described herein. EDA issues this Notice to describe the conditions under which eligible applications for these projects will be accepted and selected for funding. Projects will be funded if acceptable proposals are received.

DATES: Prospective applicants are advised that EDA will conduct a pre-proposal conference on June 16, 2000, at 10 a.m. EDT in the Department of Commerce, Herbert C. Hoover Building, 1401 Constitution Avenue, N.W., Washington, D.C. 20230, Room 1412, at which time questions on these projects can be answered. Potential applicants are encouraged to provide written questions by June 14, 2000 (See ADDRESSES section below). Prospective applicants unable to attend this pre-proposal conference may participate by telephone conference. Teleconference information may be obtained by calling (202) 482-4085 between 8:30-4:30 EDT on June 15, 2000.

Proposals for funding under this program will be accepted through July 6, 2000, at one of the addresses provided below. Proposals received after 5 p.m. EDT, on July 6, 2000, will not be considered for funding.

By July 20, 2000, EDA will notify proposers whether or not they will be given further funding consideration. Each successful proponent will be invited to submit an Application for Federal Assistance, OMB Control Number 0610-0094. The completed application must be submitted to EDA by August 1, 2000. Projects will be funded no later than September 30, 2000.

ADDRESSES: 1. Proposals may be mailed to: John J. McNamee, Director, Research and National Technical Assistance Division, Economic Development Administration, Room 7019, U.S. Department of Commerce, 1401 Constitution Avenue, NW, Washington, D.C. 20230, or

2. Proposals may be hand-delivered to: John J. McNamee, Director, Research and National Technical Assistance Division, Economic Development Administration, Room 1874, U.S. Department of Commerce, 1401 Constitution Avenue, NW, Washington, D.C. 20230, or

3. Proposals may be submitted via e-mail to rntapubs@doc.gov.

FOR FURTHER INFORMATION CONTACT: John J. McNamee (202) 482-4085; email: jmcnamee@doc.gov.

SUPPLEMENTARY INFORMATION:

I. Areas of Special Interest

A. Background

As part of its ongoing mission to assist economically distressed areas, EDA supports projects that disseminate information to economic development practitioners serving distressed communities nationally (see paragraph IV.C. for EDA's definition of distress).

Historically, these projects have consisted mainly of newsletters targeted to a national audience. At this time, EDA is soliciting proposals in order to:

• Continue serving the economic development information needs of distressed rural and urban areas;

• Take greater advantage of new technologies for information dissemination (including Internet, videoconferencing, e-mail, etc.); and

• Identify and provide information in new or emerging areas of economic development needed by practitioners serving distressed areas.

EDA anticipates funding a variety of information dissemination projects. These may include one-time projects of a year or less duration and/or multi-year projects. These projects may use printed or electronic media or a combination of both to disseminate economic development information. Current EDA information dissemination grantees are encouraged to submit proposals and will be evaluated based on the same criteria as all other proposals. Organizations or individuals may submit more than one proposal for consideration under this RFP.

B. Scope of Work

The successful applicants will:

(1) Undertake information dissemination activities targeted at a national audience of economic development practitioners working in America's distressed communities.

(2) Do one or more of the following:

• Identify and cultivate understanding of the causes of excessive unemployment, underemployment, low income, outmigration and/or other forms of economic distress in areas and regions of the Nation;

• Support the development and greater understanding of new economic development tools and national, State, and local programs designed to relieve economic distress;

• Promote knowledge and understanding of effective programs, projects and techniques that alleviate economic distress.

(3) Influence economic development outcomes by improving the quality, accessibility, and timeliness of critical information available to economic development practitioners.

C. Additional Requirements

(1) Proposed projects should not be primarily for the benefit of the grantee, narrowly focused organizations, or localized geographic areas.

(2) Grantees shall attend and participate in three EDA conferences each year. Locations and dates of the conferences attended are at EDA's discretion.

D. Cost

A total of $550,000 is available for all projects funded under this RFP. EDA anticipates funding multiple projects. Ordinarily, the applicant is expected to provide a 50% non-federal share of project costs. However, EDA may reduce or waive the required 50% matching share of the total project costs, provided the applicant can demonstrate: (1) the project is not feasible without, and the project merits such a reduction or waiver, or (2) the project is addressing major causes of distress in the area serviced and requires the unique characteristics of the applicant, which will not participate if it must provide all or part of a 50% non-federal share, or (3) the project is for the benefit of local, state, regional, or national economic development efforts, and will be of no or only incidental benefit to the recipient, or (4) the requirements of 13 CFR 301.4(b) (table) are satisfied (See 13 CFR 307.11; 64 FR 69878).

E. Timing

Awards made under this RFP are for up to one year. However, some of these awards may be eligible for multi-year funding, i.e., renewable for two additional years after the initial award is made, at the same or lower annual project cost, subject to funding availability, satisfactory performance under the initial or subsequent award, and at the sole discretion of EDA. The intent of this renewal option is to provide grantees somewhat more predictable funding necessary to develop, implement, and improve their information dissemination projects. EDA, at its sole discretion, will make the final determination of whether an award may be renewable for two additional years, based on the above-described criteria, at the time of project approval.

II. How To Apply

A. Eligible Applicants

See EDA's interim final rule and final rule at 13 CFR 300.2 (64 FR 5347, 5352; 64 CFR 69868). Eligible applicants are as follows: institutions of higher education, consortiums of institutions of higher education; public or private nonprofit organizations or associations acting in cooperation with officials of a political subdivision of a state, for-profit organizations, and private individuals; areas meeting requirements under 13 CFR 301.2; Economic Development Districts; Indian tribes; consortiums of Indian Tribes; states, cities or other political subdivisions of a state; consortiums of political subdivisions of states.

B. Proposal Submission Procedures

Each proposal submitted must include:

(1) A description of how the researcher(s) intend(s) to carry out the scope of work (not to exceed 10 pages in length). This description must address the following issues:

• Identify and describe the target audience, and the reason(s) why the proposed information dissemination activity is necessary;

• Describe how the organization plans to achieve the proposed target audience penetration;

• Describe the types of information that will be disseminated;

• Justify why the proposed activity should be federally funded;

• Describe the economic development outcomes or activities that will be influenced by the information dissemination efforts;

• For activities proposed for multi-year funding (up to three years maximum), justify the need for such funding.

(2) A proposed budget and accompanying explanation;

(3) Resumes/qualifications of key staff (not to exceed two pages per individual, with an additional 2 pages allowed for a single summary description of all organizations/consultants named in the proposal), and

(4) A proposed time line for implementation of the project.

E-mailed proposals should be in WordPerfect for Windows or .pdf (Adobe) format. EDA will not accept proposals submitted by FAX. Proposals received after 5 p.m. EDT on July 6, 2000, at the street or email addresses provided in the ADDRESSES section above, will not be considered.

III. Selection Process and Evaluation Criteria

All proposals must meet EDA's statutory and regulatory requirements. Proposals will receive initial review by EDA to assure that they meet all requirements of this RFP and 13 CFR Chapter III (64 FR 5347, 5357; 64 FR 69868, 69874), including eligibility and relevance to the specified project as described herein. EDA's general selection process and criteria are set out in 13 CFR 304.1, 304.2 (64 FR 5347,5357; 64 FR 69868, 69874-69875) and current 13 CFR 307.10 (§ 307.8 in the interim rule), (64 FR 5347, 5429; 64 FR 69868, 69878). Proposals that do not substantially address all items required or that exceed the page limitations of Part II.B. of this RFP, will be ruled nonresponsive and not considered for funding. Proposals that meet these requirements will be evaluated by a review panel comprised of at least three members. EDA will carry out its selection process using the following criteria:

(1) The quality of a proposal's response to the Scope of Work and Additional Requirements described in Parts I.B. and I.C. above;

(2) The ability of the prospective applicant to successfully carry out the proposed activities; and

(3) Cost to the Federal government.

If a proposal is selected, EDA will provide the proponent with an Application for Federal Assistance (OMB Control Number 0610-0094). Notwithstanding any other provision of law, no person is required to respond to nor shall a person be subject to a penalty for failure to comply with a collection of information subject to the requirements of the Paperwork Reduction act unless that collection of information displays a currently valid OMB Control Number.

IV. Additional Information

A. Authority

The Public Works and Economic Development Act of 1965, as amended (P. L. 89-136, 42 U.S.C. 3121 et seq.), including the comprehensive amendments by the Economic Development Administration Reform Act of 1998 (Pub.L. 105-393) (PWEDA) authorizes EDA to make grants for training, research, and technical assistance, including grants for program evaluation and project impact analyses, that would be useful in alleviating or preventing conditions of excessive unemployment or underemployment (42 U.S.C. 3147, 207). Public Law 106-113 makes funds available for this program.

B. Catalog of Federal Domestic Assistance

11.303 Economic Development Technical Assistance

C. Program Description

For a description of this program see PWEDA and 13 CFR Chapter III, § 307 (64 FR 5347; 64 FR 69867).

EDA assistance is focused on areas experiencing significant economic distress, defined principally as per capita income of 80 percent or less of the national average; or an unemployment rate that is, for the most recent 24-month period for which data are available, at least one percent greater than the national average; or a special need, as determined by EDA.

D. Website

See 64 FR 3763-3769 for additional information and requirements (available on the Internet at http://www.doc.gov/eda/html/notice.htm, under the heading “Research, Evaluation, and National Technical Assistance: Request for Grant Proposals.” This notice has been determined to be not significant for purposes of Executive Order 12866.

Dated: May 30, 2000.
David L. McIlwain,
Acting Assistant Secretary for Economic Development.

[FR Doc. 00-13964 Filed 6-2-00; 8:45 am]

BILLING CODE 3510-24-U